DEPARTMENT OF VETERANS AFFAIRS

38 CFR Part 3

RIN 2900-AK98

Extension of the Presumptive Period for Compensation for Gulf War Veterans' Undiagnosed Illnesses

AGENCY: Department of Veterans Affairs.

ACTION: Final rule.

SUMMARY: This document affirms an amendment to the Department of Veterans Affairs (VA) adjudication regulations regarding compensation for disabilities resulting from undiagnosed illnesses suffered by Persian Gulf War veterans. The amendment extends the period within which such disabilities must become manifest to a compensable degree in order for entitlement for compensation to be established. The amendment ensures that veterans with compensable disabilities due to undiagnosed illnesses that may be related to active service in the Southwest Asia theater of operations during the Persian Gulf War may qualify for benefits.

DATES: Effective Date: December 27, 2002.

FOR FURTHER INFORMATION CONTACT: John Bisset, Jr., Regulations Staff, Compensation and Pension Service, Veterans Benefits Administration, 810 Vermont Avenue, NW., Washington, DC 20420, telephone (202) 273-7213.

SUPPLEMENTARY INFORMATION: Regulations to establish the framework necessary for the Secretary to pay compensation under the authority granted by the “Persian Gulf War Veterans” Benefits Act of 1994,” title I of Public Law 103-446, are set forth in 38 CFR 3.117. Under these regulations, VA may pay compensation for disability resulting from an undiagnosed illness becoming manifest to a compensable degree in a Persian Gulf War veteran within a specified presumptive period. An interim final rule extending the presumptive period through December 31, 2006, was published on November 9, 2001 (66 FR 56614-615).

We provided a 60-day comment period that ended January 8, 2002. We received no comments. Based on the rationale set forth in the interim final rule we now affirm as a final rule the extension of the presumptive period made by the interim final rule.

Paperwork Reduction Act

This document contains no provisions constituting a collection of information under the Paperwork Reduction Act (44 U.S.C. 3501-3520).

Administrative Procedure Act

This document affirms without any changes an amendment made by an interim final rule that is already in effect. Accordingly, we have concluded under 5 U.S.C. 553 that there is good cause for dispensing with a delayed effective date based on the conclusion that such procedure is impracticable, unnecessary, and contrary to the public interest.

Unfunded Mandates

The Unfunded Mandates Reform Act requires, at 2 U.S.C. 1532, that agencies prepare an assessment of anticipated costs and benefits before developing any rule that may result in an expenditure by State, local, or tribal governments, in the aggregate, or by the private sector of $100 million or more in any given year. This final rule would have no consequential effect on State, local, or tribal governments, nor will it impose costs on the private sector.

Regulatory Flexibility Act

The Secretary hereby certifies that this final rule will not have a significant economic impact on a substantial number of small entities as they are defined in the Regulatory Flexibility Act (RFA), 5 U.S.C. 601-612. Only VA beneficiaries could be directly affected. Therefore, pursuant to 5 U.S.C. 605(b), this final rule is exempt from the initial and final regulatory flexibility analysis requirements of sections 603 and 604.

Executive Order 12866

This final rule has been reviewed by OMB under Executive Order 12866.

The Catalog of Federal Domestic Assistance program numbers are 64.109 and 64.110.

List of Subjects in 38 CFR Part 3

Administrative practice and procedure, Claims, Health care, Individuals with disabilities, Pensions, Veterans, Vietnam.

Approved: October 24, 2002.
Anthony J. Principi,
Secretary of Veterans Affairs.

PART 3—ADJUDICATION

Accordingly, the interim rule amending 38 CFR part 3 which was published at 66 FR 56614 on November 9, 2001, is adopted as a final rule without change.

[FR Doc. 02-32625 Filed 12-26-02; 8:45 am]

BILLING CODE 8320-01-P